DEPARTMENT OF JUSTICE

Office of Justice Programs

[OMB Number 1121-0317]

Agency Information Collection Activities; Proposed Collection, Comments Requested: Reinstatement, With Change, of a Previously Approved Collection for Which Approval Has Expired, Identity Theft Supplement (ITS) to the National Crime Victimization Survey (NCVS)

ACTION: 30-day Notice of Information Collection Under Review.

The Department of Justice (DOJ), Office of Justice Programs, Bureau of Justice Statistics will be submitting the following information collection request to the Office of Management and Budget (OMB) for review and approval in accordance with the Paperwork Reduction Act of 1995. The proposed information collection is published to obtain comments from the public and affected agencies. This proposed information collection was previously published in the Federal Register Volume 76, Number 158, pages 50758-50759 on August, 15, 2011, allowing for a 60 day comment period.

The purpose of this notice is to allow for an additional 30 days for public comment until November 25, 2011. This process is conducted in accordance with 5 CFR 1320.10.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please contact Lynn Langton, Statistician, Bureau of Justice Statistics, Office of Justice Program, Department of Justice, 810 7th Street, NW., Washington, DC 20530 or facsimile (202) 307-1463, or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of information collection: Reinstatement, with change, of a previously approved collection for which approval has expired.

(2) Title of the Form/Collection: Identity Theft Supplement (ITS) to the National Crime Victimization Survey.

(3) Agency form number, if any, and the applicable component of the department sponsoring the collection: ITS-1. Bureau of Justice Statistics, Office of Justice Programs, Department of Justice.

(4) Affected public who will be asked or required to respond, as well as a brief abstract. Primary: Persons 16 years or older in NCVS sampled households in the United States. The Identity Theft Supplement (ITS) to the National Crime Victimization Survey collects, analyzes, publishes, and disseminates statistics on the prevalence, economic cost, and consequences of identity theft on victims.

(5) An estimate of the total number of respondents and the amount of time estimated for an average respondent to respond/reply: Approximately 79,400 persons 16 years of age or older will complete an ITS interview. The majority of respondents, approximately 75,500 will be administered only the screening portion of the ITS which is designed to filter out those people who have not been victims of identity theft during the past year and therefore are not eligible to continue with the remainder of the supplement questions. We estimate the average length of the ITS interview for these individuals will be 0.08 hours (five minutes). Based on findings from the 2008 ITS, we estimate that approximately 5% of respondents will have experienced at least one incident of identity theft during the prior year. For these victims, we estimate each interview will take 0.25 hours (15 minutes) to complete.

(6) An estimate of the total public burden (in hours) associated with the collection: The total respondent burden is approximately 7,029 hours.

If additional information is required, contact: Mrs. Jerri Murray, Department Clearance Officer, United States Department of Justice, Justice Management Division, Policy and Planning Staff, Two Constitution Square, 145 N Street, NE., Suite 2E-508, Washington, DC 20530.

Jerri Murray,
Department Clearance Officer, PRA, United States Department of Justice.

[FR Doc. 2011-27495 Filed 10-24-11; 8:45 am]

BILLING CODE 4410-18-P